DEPARTMENT OF LABOR

Employment and Training Administration

[TA-W-57,394]

Edscha Roof Systems, LLC, Formerly Known as Premier Roof Systems, LLC, Greer, SC; Amended Certification Regarding Eligibility To Apply for Worker Adjustment Assistance and Alternative Trade Adjustment Assistance

In accordance with section 223 of the Trade Act of 1974 (19 U.S.C. 2273), and section 246 of the Trade Act of 1974, (26 U.S.C. 2813), as amended, the Department of Labor issued a Certification of Eligibility To Apply for Worker Adjustment Assistance on July 22, 2005, applicable to workers of Edscha Roof Systems, LLC, Greer, South Carolina. The notice will be published soon in the Federal Register.

At the request of the State agency, the Department reviewed the certification for workers of the subject firm. The workers are engaged in the production of convertible tops. The subject firm originally named Premier Roof Systems, LLC as the name of the company, however, new information shows that the company was renamed Edscha Roof Systems, LLC on January 28, 2005. The State agency reports that some workers wages at the subject firm are being reported under the Unemployment Insurance (UI) tax account for Premier Roof Systems, LLC, Greer, South Carolina.

Accordingly, the Department is amending the certification to properly reflect this matter.

The intent of the Department's certification is to include all workers of Edscha Roof Systems, LLC who were adversely affected by a shift in production to Mexico.

The amended notice applicable to TA-W-57,394 is hereby issued as follows:

All workers of Edscha Roof Systems, LLC, formerly known as Premier Roof Systems, LLC, Greer, South Carolina, who became totally or partially separated from employment on or after June 9, 2004, through July 22, 2007, are eligible to apply for adjustment assistance under Section 223 of the Trade Act of 1974.

Signed in Washington, DC this 10th day of August, 2005.
Elliott S. Kushner,
Certifying Officer, Division of Trade Adjustment Assistance.

[FR Doc. E5-4496 Filed 8-17-05; 8:45 am]

BILLING CODE 4510-30-P